HARRY S. TRUMAN SCHOLARSHIP FOUNDATION

Sunshine Act Meeting; Meeting of the Trustees and Officers of the Harry S. Truman Scholarship Foundation

December 16, 2008, 9:30 a.m.-11:30 p.m. U.S. Capitol, RHOB, Room 2212.

I. Call to order, Welcome, Approval of the Minutes from September 18, 2007 meeting.

II. Approval of Selection of 2008 Truman Scholars.

III. Executive Secretary Report: Development Fund.

IV. Report on 2008-2009 Truman-Albright Fellows program.

V. Approval of a FY2009 Budget.

VI. Old Business.

VII. New Business.

VIII. Adjournment.

Dated: December 8, 2008.
Frederick G. Slabach,
Executive Secretary.

[FR Doc. E8-29421 Filed 12-9-08; 11:15 am]

BILLING CODE 6820-AD-P